DEPARTMENT OF HEALTH AND HUMAN SERVICES

National Institutes of Health

National Institute of Biomedical Imaging and Bioengineering; Notice of Closed Meeting

Pursuant to section 1009 of the Federal Advisory Committee Act, as amended, notice is hereby given of a meeting of the Board of Scientific Counselors, National Institute of Biomedical Imaging and Bioengineering. The meeting will be closed to the public as indicated below in accordance with the provisions set forth in sections 552b(c)(4) and 552b(c)(6), Title 5 U.S.C., as amended for the review, discussion, and evaluation of individual intramural programs and projects conducted by the National Institute of Biomedical Imaging and Bioengineering, including consideration of personnel qualifications and performance, and the competence of individual investigators, the disclosure of which would constitute a clearly unwarranted invasion of personal privacy.

Name of Committee: National Institute of Biomedical Imaging and Bioengineering Board of Scientific Counselors.

Date: September 24-25, 2024.

Time: September 24, 2024, 11:00 a.m.-5:15 p.m.; September 25, 2024, 11:00 a.m.-3:00 p.m.

Agenda: To review, discuss, and evaluate individual intramural programs and projects conducted by the National Institute of Biomedical Imaging and Bioengineering, including consideration of personnel qualifications and performance, and the competence of individual investigators.

Address: National Institutes of Health, Bethesda, MD 20892, Virtual Meeting.

Contact Person: Richard D. Leapman, Ph.D., Intramural Scientific Director, National Institute of Biomedical Imaging and Bioengineering, National Institutes of Health, Building 13, Room 3E 73, Bethesda, MD 20892, (301) 496-2599, leapmanr@mail.nih.gov.

Any interested person may file written comments with the committee by forwarding the statement to the Contact Person listed on this notice. The statement should include the name, address, telephone number and when applicable, the business or professional affiliation of the interested person.

Dated: August 15, 2024.
Victoria E. Townsend,
Program Analyst, Office of Federal Advisory Committee Policy.

[FR Doc. 2024-18831 Filed 8-21-24; 8:45 am]

BILLING CODE 4140-01-P